DEPARTMENT OF ENERGY

[Docket No. EA-186-A]

Application To Export Electric Energy; New England Power Pool

AGENCY: Office of Fossil Energy, DOE.

ACTION: Notice of application.

SUMMARY: The New England Power Pool (NEPOOL) has applied for authority to transmit electric energy, on an emergency basis, from the United States to the Province of New Brunswick, Canada, pursuant to section 202(e) of the Federal Power Act.

DATES: Comments, protests or requests to intervene must be submitted on or before April 17, 2002.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On August 26, 1998, the Office of Fossil Energy (FE) of the Department of Energy (DOE) authorized NEPOOL, a collection of 215 electric utilities, power marketers, and other entities that are engaged in, or propose to engage in, the electric power business in New England, to export electric energy to Hydro Quebec, the provincial electric utility of the Province of Quebec. In Order EA-186, FE authorized NEPOOL to export electric energy to Hydro Quebec in response to emergency requests for electric supply by Hydro Quebec and only over the 345-kV (operated at 120-kV) facilities owned and operated by the Joint Owners of the Highgate Project located at Highgate, Vermont, and authorized by Presidential Permit PP-82.

On January 25, 2002, FE received an application from NEPOOL to transmit electric energy to the New Brunswick electric system using the existing 345,000-volt transmission line owned by Maine Electric Power Company (MEPCO) at Houlton, Maine. The construction, operation, maintenance, and connection of the MEPCO international transmission facilities was authorized on July 25, 1970, in Presidential Permit PP-43.

The request of NEPOOL for an authorization to make emergency deliveries of up to 700 MW to the New Brunswick system is not in response to a declared emergency situation. Rather, the NEPOOL request is intended to give NEPOOL the ability to respond without delay to any future requests for emergency assistance by New Brunswick. Should such a request for emergency assistance be made, NEPOOL proposes to transmit electric energy to Canada that is surplus to the New England region as determined by the New England Independent System Operator (ISO-NE) which is the Control Area Operator for New England and the entity responsible for scheduling transmission service over virtually all of the bulk power transmission facilities in New England.

In this proceeding, DOE specifically seeks comment on NEPOOL's request to export electric energy at a rate of transmission of up to 700 MW. Studies currently on file with DOE limit exports on the MEPCO transmission line to a transmission rate of 500 MW.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the NEPOOL request to export to Canada should be clearly marked with Docket EA-186-A. Additional copies are to be filed directly with Paul B. Shortley, Chair, NEPOOL Reliability Committee, c/o ISO New England Inc., One Sullivan Road, Holyoke, MA 01040-2841 and David T. Doot, Esq., NEPOOL Sectetary, c/o Day, Berry & Howard, LLP, CityPlace I, Hartford, CT 0603-3499.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation” and then “Pending Procedures” from the options menus.

Issued in Washington, DC, on March 11, 2002.
Anthony J. Como,
Deputy Director, Electric Power Regulation, Office of Coal & Power Import/Export, Office of Coal & Power Systems, Office of Fossil Energy.

[FR Doc. 02-6424 Filed 3-15-02; 8:45 am]

BILLING CODE 6450-01-P